ENVIRONMENTAL PROTECTION AGENCY

40 CFR Part 272

[FRL-9293-8]

Wisconsin: Incorporation by Reference of Approved State Hazardous Waste Management Program

AGENCY: Environmental Protection Agency (EPA).

ACTION: Proposed rule.

SUMMARY: EPA proposes to codify in the regulations entitled “Approved State Hazardous Waste Management Programs,” Wisconsin's authorized hazardous waste program. EPA will incorporate by reference into the Code of Federal Regulations (CFR) those provisions of the State regulations that are authorized and that the EPA will enforce under the Solid Waste Disposal Act, commonly referred to as the Resource Conversation and Recovery Act (RCRA).

DATES: Send written comments by June 8, 2011.

ADDRESSES: Send written comments to Jean Gromnicki, U.S. EPA, Region 5, 77 West Jackson Boulevard, Mail Code LR-8J, Chicago, Illinois 60604. You may also submit comments electronically or through hand delivery/courier; please follow the detailed instructions in the ADDRESSES section of the immediate final rule which is located in the Rules section of this Federal Register.

FOR FURTHER INFORMATION CONTACT: Jean Gromnicki, U.S. EPA, Region 5, 77 West Jackson Boulevard, Mail Code LR-8J, Chicago, Illinois 60604, gromnicki.jean@epa.gov, (312) 886-6162.

SUPPLEMENTARY INFORMATION: In the “Rules and Regulations” section of this Federal Register, EPA is codifying and incorporating by reference the State's hazardous waste program as an immediate final rule. EPA did not make a proposal prior to the immediate final rule because we believe these actions are not controversial and do not expect comments that oppose them. We have explained the reasons for this codification and incorporation by reference in the preamble to the immediate final rule. If we do not get written comments which oppose this incorporation by reference during the comment period, the immediate final rule will become effective on the date it establishes, and we will not take further action on this proposal. If we get comments that oppose these actions, we will withdraw the immediate final rule and it will not take effect. We will then respond to public comments in a later final rule based on this proposal. You may not have another opportunity for comment. If you want to comment on this action, you must do so at this time. For additional information, please see the immediate final rule published in the “Rules and Regulations” section of this Federal Register.

Authority: This action is issued under the authority of sections 2002(a), 3006 and 7004(b) of the Solid Waste and Disposal Act, as amended, 42 U.S.C. 6912(a), 6926, 6974(b).

Dated: March 24, 2011.
Susan Hedman,
Regional Administrator, Region 5.

[FR Doc. 2011-11155 Filed 5-6-11; 8:45 am]

BILLING CODE 6560-50-P